SECURITIES AND EXCHANGE COMMISSION

Sunshine Act Meetings

FEDERAL REGISTER CITATION OF PREVIOUS ANNOUNCEMENT: 83 FR 29582, 25 Jun 2018.

PREVIOUSLY ANNOUNCED TIME AND DATE OF THE MEETING: Thursday, June 28, 2018 at 10:00 a.m.

CHANGES IN THE MEETING: The following item will not be considered during the Open Meeting on Thursday, June 28, 2018:

• Whether the Commission should enter into a revised memorandum of understanding with the Commodity Futures Trading Commission that would update and supersede the existing regulatory coordination memorandum of understanding between the two agencies.

CONTACT PERSON FOR MORE INFORMATION: For further information and to ascertain what, if any, matters have been added, deleted or postponed, please contact the Office of the Secretary at (202) 551-5400.

Dated: June 28, 2018.
Brent J. Fields,
Secretary.

[FR Doc. 2018-14280 Filed 6-28-18; 4:15 pm]

BILLING CODE 8011-01-P